NUCLEAR REGULATORY COMMISSION

Draft Regulatory Guide; Issuance, Availability

The Nuclear Regulatory Commission has issued for public comment a proposed revision of a guide in its Regulatory Guide Series. Regulatory Guides are developed to describe and make available to the public such information as methods acceptable to the NRC for implementing specific parts of the NRC's regulations, techniques used by the staff in evaluating specific problems or postulated accidents, and data needed by the staff in its review of applications for permits and licenses.

The draft guide is temporarily identified by its task number, DG-1126, which should be mentioned in all correspondence concerning this draft guide. Draft regulatory guide DG-1126, “ASME Code Cases Not Approved for Use,” is proposed Revision 1 of Regulatory Guide 1.193. The American Society of Mechanical Engineers (ASME) publishes a new edition of the Boiler and Pressure Vessel (B&PV) Code every three years and new addenda every year. The latest editions and addenda of Section III and Section XI that have been approved for use by the NRC are referenced in 10 CFR 50.55a(b). The ASME also publishes Code cases for Section III and Section XI quarterly. Code cases provide alternatives to the B&PV Code developed and approved by the ASME. Revision 32 of Regulatory Guide 1.84, “Design, Fabrication, and Materials Code Case Acceptability, ASME Section III,” and Revision 13 of Regulatory Guide 1.147, “Inservice Inspection Code Case Acceptability, ASME Section XI, Division 1,” are being revised to identify the Code cases that have been determined by the NRC to be acceptable alternatives to applicable parts of Section III and Section XI. This regulatory guide (DG-1126) lists the Code cases that the NRC has determined not to be acceptable for use on a generic basis. A brief description of the basis for the determination is provided with each Code case. Licensees may submit a request to implement one or more of the Code cases listed in the guide through 10 CFR 50.55a(a)(3), which permits the use of alternatives to the Code requirements referenced in 10 CFR 50.55a provided that the proposed alternatives result in an acceptable level of quality and safety. A licensee must submit a plant-specific request that addresses the NRC's concern about the Code case at issue.

This is a draft guide and does not represent an official NRC staff position. Because Code cases approved by the NRC in a final guide may be used voluntarily by licensees as an alternative to compliance with ASME Code provisions, the final guide will be incorporated by reference into 10 CFR 50.55a through rulemaking.

Comments may be accompanied by relevant information or supporting data. Written comments may be submitted by mail to the Rules and Directives Branch, Office of Administration, U.S. Nuclear Regulatory Commission, Washington, DC 20555-0001; or they may be hand-delivered to the Rules and Directives Branch, Office of Administration, at 11555 Rockville Pike, Rockville, MD. Copies of comments received may be examined at the NRC's Public Document Room, 11555 Rockville Pike, Rockville, MD. Comments will be most helpful if received by September 2, 2004.

You may also provide comments via the NRC's interactive rulemaking Web site through the NRC home page (http://www.nrc.gov). This site provides the ability to upload comments as files (any format) if your Web browser supports that function. For information about the interactive rulemaking Web site, contact Ms. Carol Gallagher, (301) 415-5905; e-mail CAG@NRC.GOV. For technical information about Draft Regulatory Guide DG-1126, contact Mr. W.E. Norris at (301) 415-6796 (e-mail WEN@NRC.GOV).

Although a deadline is given for comments on these draft guides, comments and suggestions in connection with items for inclusion in guides currently being developed or improvements in all published guides are encouraged at any time.

Regulatory guides are available for inspection at the NRC's Public Document Room, 11555 Rockville Pike, Rockville, MD; the PDR's mailing address is USNRC PDR, Washington, DC 20555-0001; telephone (301) 415-4737 or (800) 397-4209; fax (301) 415-3548; e-mail PDR@NRC.GOV. Requests for single copies of draft or final regulatory guides (which may be reproduced) or placement on an automatic distribution list for single copies of future draft guides in specific divisions should be made in writing to the U.S. Nuclear Regulatory Commission, Washington, DC 20555-0001, Attention: Reproduction and Distribution Services Section, or by fax to (301) 415-2289; e-mail DISTRIBUTION@NRC.GOV. Telephone requests cannot be accommodated. Regulatory guides are not copyrighted, and NRC approval is not required to reproduce them. (5 U.S.C. 552(a))

Dated in Rockville, Maryland this 20th day of April 2004.
For the Nuclear Regulatory Commission.
Michael E. Mayfield,
Director, Division of Engineering Technology, Office of Nuclear Regulatory Research.

[FR Doc. 04-17612 Filed 8-2-04; 8:45 am]

BILLING CODE 7590-01-P